DEPARTMENT OF STATE

[Delegation of Authority No. 539]

Delegation of Authorities; Secure Embassy Construction and Counterterrorism Act

1. By virtue of the authority vested in the Secretary of State by the laws of the United States, including by section 1 of the State Department Basic Authorities Act (22 U.S.C. 2651a(a)(4)), to the extent authorized by law and subject to the conditions in paragraph 2 below, I hereby delegate to the Under Secretary of State for Management the authority to issue waivers for chanceries and consulates under section 606(a)(3)(B) of the Secure Embassy Construction and Counterterrorism Act (SECCA) of 1999, Public Law 106-113, as amended by section 9301 of the SECCA of 2022 (Div. I, Title XCIII, Public Law 117-263). I further delegate to the Under Secretary of State for Management the authority to notify the appropriate congressional committees of any such waiver and to submit to appropriate congressional committees reports under the same sections of the SECCA of 1999.

2. There will be a notification to Congress at least two days prior to any waiver's implementation. This delegation of authority shall not apply to posts designated as High Threat/High Risk posts consistent with section 104 of the Omnibus Diplomatic Security and Antiterrorism Act of 1986 (22 U.S.C. 4803).

3. The functions delegated herein may be exercised by the Secretary, the Deputy Secretary, and the Deputy Secretary for Management and Resources. This delegation does not modify any other delegation currently in force.

4. This delegation of authority will be published in the Federal Register.

Dated: February 27, 2023.
Antony Blinken,
Secretary of State.

[FR Doc. 2023-05900 Filed 3-21-23; 8:45 am]

BILLING CODE 4710-10-P